DEPARTMENT OF THE TREASURY

Office of Foreign Assets Control

Unblocking of Specially Designated Nationals and Blocked Persons Pursuant to the Foreign Narcotics Kingpin Designation Act

AGENCY: Office of Foreign Assets Control, Treasury.

ACTION: Notice.

SUMMARY: The Department of the Treasury's Office of Foreign Assets Control (“OFAC”) is publishing the names of two individuals and one entity whose property and interests in property have been unblocked pursuant to the Foreign Narcotics Kingpin Designation Act (“Kingpin Act”) (21 U.S.C. 1901-1908, 8 U.S.C. 1182).

DATES: The unblocking and removal from the list of Specially Designated Nationals and Blocked Persons (“SDN List”) of the two individuals and one entity identified in this notice whose property and interests in property were blocked pursuant to the Kingpin Act, is effective on April 30, 2013.

FOR FURTHER INFORMATION CONTACT: Assistant Director, Sanctions Compliance & Evaluation, Department of the Treasury, Office of Foreign Assets Control, Washington, DC 20220, Tel: (202) 622-2420.

SUPPLEMENTARY INFORMATION:

Electronic and Facsimile Availability

This document and additional information concerning OFAC are available from OFAC's Web site at www.treasury.gov/ofac or via facsimile through a 24-hour fax-on demand service at (202) 622-0077.

Background

On December 3, 1999, the Kingpin Act was signed into law by the President of the United States. The Kingpin Act provides a statutory framework for the President to impose sanctions against significant foreign narcotics traffickers and their organizations on a worldwide basis, with the objective of denying their businesses and agents access to the U.S. financial system and to the benefits of trade and transactions involving U.S. persons and entities.

The Kingpin Act blocks all property and interests in property, subject to U.S. jurisdiction, owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons or entities found to be: (1) Materially assisting in, or providing financial or technological support for or to, or providing goods or services in support of, the international narcotics trafficking activities of a person designated pursuant to the Kingpin Act; (2) owned, controlled, or directed by, or acting for or on behalf of, a person designated pursuant to the Kingpin Act; and/or (3) playing a significant role in international narcotics trafficking.

On April 30, 2013, the Director of OFAC removed from the SDN List the two individuals and one entity listed below, whose property and interests in property were blocked pursuant to the Kingpin Act:

Individuals

1. DIAZ HERRERA, Jose Ricuarte, c/o PROMOTORA HOTELERA LTDA, Bogota, Colombia; DOB 16 Aug 1958; POB Venecia, Cundinamarca, Colombia; citizen Colombia; Cedula No. 79263544 (Colombia) (individual) [SDNTK].

2. MORENO BERNAL, Luz Marina, c/o PROMOTORA HOTELERA LTDA, Bogota, Colombia; DOB 02 Jul 1955; POB Bogota, Colombia; citizen Colombia; Cedula No. 41703570 (Colombia) (individual) [SDNTK].

Entity

1. PROMOTORA HOTELERA LTDA (a.k.a. COMERCIAL PROMOTELES), Calle 114 No. 9-01, Bogota, Colombia; NIT #8300125383 (Colombia) [SDNTK].

Dated: April 30, 2013.
Adam J. Szubin,
Director, Office of Foreign Assets Control.

[FR Doc. 2013-11540 Filed 5-14-13; 8:45 am]

BILLING CODE 4810-AL-P